DEPARTMENT OF HOUSING AND URBAN DEVELOPMENT

[Docket No. FR-7006-N-20]

60-Day Notice of Proposed Information Collection: Moving to Work Amendment To Consolidated Annual Contributions Contract

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 25, 2019.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; e-mail Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Moving to Work Amendment to Consolidated Annual Contributions Contract.

OMB Approval Number: Pending OMB Approval.

Type of Request: New Collection.

Form Number: TBD.

Description of the need for the information and proposed use: The Moving to Work (MTW) amendment to the Consolidated Annual Contributions Contract, signed by HUD and the selected Public Housing Authority (PHA) is necessary to govern 100 new PHA's participation in the MTW demonstration pursuant to the 2016 Appropriations Act. It will allow the PHA to operate under the MTW Operations Notice and its respective selection notice, while remaining subject to the CACC when not otherwise waived by the Operations Notice, and to detail the termination and default rights of HUD should an agency fail in its implementation of the demonstration.

Respondents: Public Housing Authorities.

Information collection | Number of respondents | Frequency of response | Responses per annum | Burden hour per response | Annual burden hours | Hourly cost per response | Annual cost
Total | 100 | Once | 1 | 0 | 0 | 0 | 0

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority Section 3507 of the Paperwork Reduction Act of 1995, 44 U.S.C. Chapter 35

Date: December 13, 2018.
Merrie Nichols-Dixon,
Director, Office of Policy, Programs and Legislative Initiatives.

MOVING TO WORK AMENDMENT TO CONSOLIDATED ANNUAL CONTRIBUTIONS CONTRACT

Section 1. This Moving to Work (MTW) Amendment to the Consolidated Annual Contributions Contract (MTW CACC Amendment) is entered into between the United States Department of Housing and Urban Development (“HUD”) and__(the “Authority”).

Section 2. This MTW CACC Amendment is an amendment to any Consolidated Annual Contributions Contracts (“the CACC”) between the Authority and HUD for the Public Housing and Housing Choice Voucher programs.

Section 3. The CACC is amended in connection with the Authority's designation as a participant in the expansion of the MTW demonstration pursuant to Section 239 of the Consolidated Appropriations Act, 2016, P.L. 114-113; 129 Stat. 2897 (2016 MTW Expansion Statute) and Section 204 of the Departments of Veterans Affairs and Housing and Urban Development and Independent Agencies Appropriations Act, 1996, P.L. 104-134; 110 Stat. 1321-281 (1996 MTW statute). The Authority's participation in the expansion of the MTW demonstration shall be governed by the MTW Operations Notice for the Expansion of the Moving to Work Demonstration (PIH Notice 2019-XXXX) or any successor notice issued by HUD, (which shall collectively be called “the Operations Notice” throughout this document).

Section 4. The term of this amendment shall be for 12 years from the effective date of this amendment or until termination of this amendment, whichever is sooner

Section 5. Requirements and Covenants.

(A) As a participant in the MTW demonstration, the Authority must operate in accordance with the express terms and conditions set forth in the Operations Notice. The MTW Operations Notice may be superseded or amended by HUD at any time during the MTW term of the Authority's participation in the MTW demonstration.

(B) The Authority will cooperate fully with HUD and its contractors for the duration of the HUD-sponsored evaluation of the cohort of the MTW Expansion for which the PHA was selected and shall comply with all aspects of its Cohort Study as outlined in the Selection Notice (PIH Notice _-_), under which the Authority was designated.

(C) The Authority may be exempted from certain provisions of the Housing Act of 1937 and its implementing regulations in accordance with the requirements and procedures set forth in the Operations Notice. However, the Authority remains subject to all other federal laws and HUD requirements, as they be amended from time to time even in the event of a conflict between such a requirement and a waiver or activity authorized by the Operations Notice.

(D) HUD reserves the right to require the Authority to discontinue any activity or to revise any activity to comply with the Operations Notice and other applicable HUD requirements in the event of a conflict between an MTW activity and such requirements, as determined by HUD.

(E) HUD reserves the right to require the Authority to discontinue any activity derived from a waiver granted by the Operations Notice should it have significant negative impacts on families or the agency's operation of its assisted housing programs using Section 8 and 9 funds, as determined by HUD.

Section 6. Transition

At least one year prior to expiration of this MTW CACC Amendment, the Authority shall submit a transition plan to HUD. It is the Authority's responsibility to be able to end all MTW activities that it has implemented through its MTW Supplement to the PHA Plan upon expiration of this MTW CACC Amendment. The transition plan shall describe plans for phasing out such activities.

Section 7. Termination and Default

(A) If the Authority violates or fails to comply with any requirement or provision of the CACC, including this amendment, HUD is authorized to take any corrective or remedial action described in this Section 7 for Authority default or any other right or remedy existing under applicable law, or available at equity. HUD will give the Authority written notice of any default, which shall identify with specificity the measures, which the Authority must take to cure the default and provide a specific time frame for the Authority to cure the default, taking into consideration the nature of the default. The Authority will have the opportunity to cure such default within the specified period after the date of said notice, or to demonstrate within 10 days after the date of said notice, by submitting substantial evidence satisfactory to HUD, that it is not in default. However, in cases involving clear and apparent fraud, serious criminal behavior, or emergency conditions that pose an imminent threat to life, health, or safety, if HUD, in its sole discretion, determines that immediate action is necessary it may institute the remedies under Section 7(B) of this MTW ACC Amendment without giving the Authority the opportunity to cure.

(B) If the Authority is in default and the default has not been cured, HUD may, undertake any one or all remedies available by law, including but not limited to the following:

i. Suspend payment or reimbursement for any MTW activities affected;

ii. Suspend the Authority's authority to make draws or receive or use funds for affected activities;

iii. Require additional reporting by the Authority on the deficient areas and the steps being taken to address the deficiencies;

iv. Require the Authority to prepare and follow a HUD-approved schedule of actions and/or a management plan for properly completing the activities approved under this MTW ACC Amendment;

v. Suspend the MTW waiver authorization for the affected activities;

vi. Prohibit payment or reimbursement for any MTW activities affected by the default;

vii. Require reimbursement by the Authority to HUD for amounts used in violation of this MTW ACC Amendment;

viii. Reduce/offset the Authority's future funding;

ix. Terminate this MTW ACC Amendment and require the Authority to transition out of MTW;

x. Take any other corrective or remedial action legally available; and/or

xi. Implement administrative or judicial receivership of part, or all, of the Authority.

(C) The Authority may choose to terminate this MTW CACC Amendment at any time. Upon HUD's receipt of written notification from the Authority and a copy of a resolution approving termination from its governing board, termination will be effective. The Authority will then begin to transition out of MTW, and will work with HUD to establish an orderly phase-out of MTW activities, consistent with Section 6 of this MTW CACC Amendment.

(D) Nothing contained in this CACC amendment shall prohibit or limit HUD from the exercise of any other right or remedy existing under any ACC, CACC, or available under applicable law. HUD's exercise or non-exercise of any right or remedy under this amendment shall not be construed as a waiver of HUD's right to exercise that or any other right or remedy at any time.

Section 8. Notwithstanding any provision set forth in this MTW CACC Amendment, any future laws that conflict with any provision of this CACC Amendment, as determined by HUD, HUD's implementation of any future laws that conflict with any provision of this MTW CACC Amendment, or any HUD determination that a future law conflicts with any provision of this CACC Amendment, shall not be deemed to be a breach of this CACC Amendment. HUD's execution of the conflicting law, or the execution of a law that HUD deems conflicting, shall not serve as any basis for a breach of contract claim, or breach of contract cause of action, in any court. Any future laws affecting the Authority's funding, even if that effect is a decrease in funding, and HUD's implementation thereof that affects funding shall not be deemed a breach of this CACC Amendment and shall not serve as any basis for a breach of contract claim, or breach of contract cause of action, in any court.

Section 9. This MTW CACC Amendment is effective upon the date of execution by HUD.

In consideration of the foregoing covenants, the parties do hereby execute this MTW CACC Amendment:

HOUSING AUTHORITY

____

By:__

Its:__

Date:__

UNITED STATES DEPARTMENT OF HOUSING AND URBAN DEVELOPMENT

____

By:__

Its:__

Date:__

[FR Doc. 2018-28096 Filed 12-26-18; 8:45 am]

BILLING CODE 4210-67-P